DEPARTMENT OF AGRICULTURE

Submission for OMB Review; Comment Request

April 2, 2018.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by May 7, 2018. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Cranberries Grown in Multiple States.

OMB Control Number: 0581-0304.

Summary of Collection: The Agricultural Marketing Agreement Act of 1937 (7 U.S.C. 601 et seq.; Act), the U.S. Department of Agriculture (USDA) has authority to promulgate and oversee marketing orders to regulate the handling of an agricultural commodity placed in interstate or foreign commerce. Marketing orders are proposed and voted in by producers, and apply to handlers who place the product in commercial channels. Handlers are those companies that typically purchase products from producers for packaging, processing, and transporting the product for commercial or retail sales. Section 608d(1) of the Act provides that information necessary to determine the extent to which a marketing order has effectuated the declared policy of the Act shall be furnished at the request of the Secretary of Agriculture. The Agricultural Marketing Service (AMS) oversees the marketing order through the Committee made up of industry-nominated and USDA-appointed members, and any administrative rules and regulations issued under the proposed program.

Need and Use of the Information: AMS will collect information using five forms. The rule and regulations in 7 CFR part 929 authorize USDA and the Committee to collect certain information from handlers on the volume of cranberries withheld, certification of the proper disposal outlets, and any appeals made by a handler regarding withholdings. This information is necessary for the Secretary and the Committee to monitor adherence to the marketing order regulations, specifically for the handler withholding program. If this information was not collected, the Committee would have no way to carry out the volume control regulations.

Description of Respondents: Business or other for-profit.

Number of Respondents: 10.

Frequency of Responses: Recordkeeping; Reporting: On occasion.

Total Burden Hours: 37.

Ruth Brown,
Departmental Information Collection Clearance Officer.

[FR Doc. 2018-06927 Filed 4-4-18; 8:45 am]

BILLING CODE 3410-02-P